DEPARTMENT OF COMMERCE

International Trade Administration

[A-570-864]

Pure Magnesium in Granular Form From the People's Republic of China: Final Results of Expedited Second Sunset Review of Antidumping Duty Order

AGENCY: Import Administration, International Trade Administration, Department of Commerce.

SUMMARY: On February 1, 2012, the Department of Commerce (“the Department”) initiated the second sunset review of the antidumping duty order on pure magnesium in granular form from the People's Republic of China (“the PRC”), pursuant to section 751(c) of the Tariff Act of 1930, as amended (“the Act”). On the basis of a notice of intent to participate and an adequate substantive response filed on behalf of domestic interested parties, as well as lack of response from respondent interested parties, the Department conducted an expedited (120-day) sunset review. As a result of this sunset review, the Department finds that revocation of the antidumping duty order would be likely to lead to continuation or recurrence of dumping. The dumping margins likely to prevail are identified in the “Final Results of Review” section of this notice.

DATES: Effective Date: June 5, 2012.

FOR FURTHER INFORMATION CONTACT: Laurel LaCivita or Eugene Degnan, Office 8, AD/CVD Operations, Import Administration, International Trade Administration, U.S. Department of Commerce, 14th Street and Constitution Avenue NW., Washington, DC 20230; telephone: (202) 482-4243 or (202) 482-0414.

SUPPLEMENTARY INFORMATION:

Background

On February 1, 2012, the Department published the notice of initiation of the sunset review of the antidumping duty order on pure magnesium in granular form from the PRC.¹ On February 16, 2012, the Department received a notice of intent to participate from US Magnesium LLC (“US Magnesium”), the domestic interested party, within the deadline specified in section 315.218(d)(1)(i) of the Department's regulations. US Magnesium claimed interested party status under section 771(9)(C) of the Act, as a producer of the domestic-like product in the United States. On March 2, 2012, the Department received a complete substantive response from US Magnesium within the deadline specified in section 351.218(d)(3)(i) of the Department's regulations. We did not receive a response from any respondent interested party to this proceeding. As a result, pursuant to section 751(c)(3)(B) of the Act and section 351.218(e)(1)(ii)(C)(2) of the Department's regulations, the Department determined to conduct an expedited review of this order.

¹ See Initiation of Five-Year (“Sunset”) Review, 77 FR 4995 (February 1, 2012)(“Initiation Notice”).

Scope of the Order

There is an existing antidumping duty order on pure magnesium from the People's Republic of China (PRC).² The scope of this order excludes pure magnesium that is already covered by the existing order on pure magnesium in ingot form, and currently classifiable under item numbers 8104.11.00 and 8104.19.00 of the Harmonized Tariff Schedule of the United States (“HTSUS”).

² See Notice of Antidumping Duty Orders: Pure Magnesium From the People's Republic of China, the Russian Federation and Ukraine; Notice of Amended Final Determination of Sales at Less Than Fair Value: Antidumping Duty Investigation of Pure Magnesium From the Russian Federation, 60 FR 25691 (May 12, 1995).

The scope of this order includes imports of pure magnesium products, regardless of chemistry, including, without limitation, raspings, granules, turnings, chips, powder, and briquettes, except as noted above.

Pure magnesium includes: (1) Products that contain at least 99.95 percent primary magnesium, by weight (generally referred to as “ultra pure” magnesium); (2) products that contain less than 99.95 percent but not less than 99.8 percent primary magnesium, by weight (generally referred to as “pure” magnesium); (3) chemical combinations of pure magnesium and other material(s) in which the pure magnesium content is 50 percent or greater, but less than 99.8 percent, by weight, that do not conform to an “ASTM Specification for Magnesium Alloy” ³ (generally referred to as “off specification pure” magnesium); and (4) physical mixtures of pure magnesium and other material(s) in which the pure magnesium content is 50 percent or greater, but less than 99.8 percent, by weight. Excluded from this order are mixtures containing 90 percent or less pure magnesium by weight and one or more of certain non-magnesium granular materials to make magnesium-based reagent mixtures. The non-magnesium granular materials of which the Department is aware used to make such excluded reagents are: lime, calcium metal, calcium silicon, calcium carbide, calcium carbonate, carbon, slag coagulants, fluorspar, nephaline syenite, feldspar, aluminum, alumina (Al2O3), calcium aluminate, soda ash, hydrocarbons, graphite, coke, silicon, rare earth metals/mischmetal, cryolite, silica/fly ash, magnesium oxide, periclase, ferroalloys, dolomitic lime, and colemanite. A party importing a magnesium-based reagent which includes one or more materials not on this list is required to seek a scope clarification from the Department before such a mixture may be imported free of antidumping duties.

³ The meaning of this term is the same as that used by the American Society for Testing and Materials in its Annual Book of ASTM Standards: Volume 01.02 Aluminum and Magnesium Alloys.

The merchandise subject to this order is currently classifiable under item 8104.30.00 of the HTSUS. Although the HTSUS subheading is provided for convenience and customs purposes, our written description of the scope of this order is dispositive.⁴

⁴ The Department has issued four scope rulings with respect to pure magnesium in granular form. See Notice of Scope Rulings and Anticircumvention Inquiries, 68 FR 7772, 7774 (February 18, 2003); Memorandum to the File “Pure Magnesium in Granular Form from the People's Republic of China: Final Scope Ruling: ESM Group Inc.,” dated September 18, 2006; Memorandum to Christian Marsh, “Pure Magnesium in Granular Form from the People's Republic of China: Final Scope Ruling on Granular Magnesium Ground in Mexico,” dated October 27, 2011; Memorandum to Christian Marsh, “Pure Magnesium in Granular Form from the People's Republic of China: Final Scope Ruling for ESM Group Inc. (Atomized Magnesium),” dated October 28, 2011.

Analysis of Comments Received

All issues raised in this review are addressed in the “Issues and Decision Memorandum” (“Decision Memorandum”) from Christian Marsh, Deputy Assistant Secretary for Antidumping and Countervailing Duty Operations, to Paul Piquado, Assistant Secretary for Import Administration, dated concurrently with this notice, which is hereby adopted by this notice. The issues discussed in the Decision Memorandum include the likelihood of continuation or recurrence of dumping and the magnitude of the margins likely to prevail if the orders were revoked. The Decision Memorandum is a public document and is on file electronically via Import Administration's Antidumping and Countervailing Duty Centralized Electronic Service System (“IA ACCESS”). Access to IA ACCESS is available in the Central Records Unit (“CRU”), Main Commerce Building, Room 7046, and is also accessible on the Web at http://ia.ita.doc.gov/frn under the heading “June 2012.” The paper copy and electronic versions of the Decision Memorandum are identical in content.

Final Results of Review

We determine that revocation of the antidumping duty order on pure magnesium in granular form from the PRC would likely lead to continuation or recurrence of dumping at the following weighted-average percentage margins:

Manufacturers/exporters/ producers | Weighted average margin (percent)
China Minmetals Precious & Rare Minerals Import and Export Corp. | 24.67
PRC-Wide Entity | 305.56

This notice also serves as the only reminder to parties subject to administrative protective order (“APO”) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: May 29, 2012.
Paul Piquado,
Assistant Secretary for Import Administration.

[FR Doc. 2012-13580 Filed 6-4-12; 8:45 am]

BILLING CODE 3510-DS-P